DEPARTMENT OF HEALTH AND HUMAN SERVICES

Meeting of the International Subcommittee of the Presidential Advisory Council on HIV/AIDS

AGENCY: Office of the Secretary.

ACTION: Notice.

SUMMARY: As stipulated by the Federal Advisory Committee Act, the Department of Health and Human Services (DHHS) is hereby giving notice that the International Subcommittee of the Presidential Advisory Council on HIV/AIDS (PACHA) will host a townhall meeting. This townhall meeting is open to the public. A description of PACHA's functions is included with this notice.

DATE AND TIME: Thursday, December 18, 2003, 1 p.m. to 5 p.m.

ADDRESS: National Press Club, 529 14th Street, NW., Main Ballroom, 13th Floor, Washington, DC 20045.

FOR FURTHER INFORMATION CONTACT: Josephine Bias Robinson, Acting Executive Director, Presidential Advisory Council on HIV/AIDS, Department of Health and Human Services, 200 Independence Avenue, SW, Room 701H, Washington, DC 20201; (202) 690-5560. Information about PACHA and the draft townhall meeting agenda will be posted on the Council's Web site at http://www.pacha.gov. Directions to the National Press Club can be obtained through the Web site at http://www.press.org or by calling (202) 662-7500.

SUPPLEMENTARY INFORMATION: PACHA was established by Executive Order 12963, dated June 14, 1995, as amended by Executive Order 13009, dated June 14, 1996. The Council was established to provide advice, information, and recommendations to the Secretary regarding programs and policies intended to (a) promote effective prevention of HIV disease, (b) advance research on HIV and AIDS, and (c) promote quality services to persons living with HIV disease and AIDS. PACHA was established to serve solely as an advisory body to the Secretary of Health and Human Services. The Council is composed of not more than 35 members. Council membership is determined by the Secretary from individuals who are considered authorities with particular expertise in, or knowledge of, matters concerning HIV/AIDS.

The International Subcommittee is hosting this townhall meeting for the purpose of eliciting public comment on the implementation of the President's Emergency Plan for AIDS Relief. Individuals, agencies, and organizations with practical experience implementing health programs in the developing countries are asked to consider the following questions in preparing their oral or written comments: (1) What lessons can you provide/share regarding planning, implementation, and outcome measurement strategies that have worked best and what did not work and why?; (2) What are the vital aspects of effective partnerships and with whom?; and (3) How have you been able to effectively involve people living with HIV/AIDS in your work?

Public attendance at the townhall meeting is limited to space available and pre-registration is required. Any individual who wishes to participate should call the telephone number listed in the contact information to register. For purposes of planning and coordination, individuals are asked to designate an affiliation from the following categories: (1) Non-Governmental/Community-Based Organization (NGO/CBO); (2) Academic and/or Research Institution; (3) Faith-Based Organization; (4) Private Sector Sponsored Organization; or (5) Other. Individuals must provide a photo ID for entry into the meeting. Individuals who plan to attend and need special assistance, such as sign language interpretation or other reasonable accommodations, should notify the designated contact person.

Members of the public will have the opportunity to provide comments at the townhall meeting. Pre-registration is required for public comment. Public comment will be limited to three (3) minutes per speaker. Any members of the public who wish to have printed material distributed to the International Subcommittee members should submit materials to the Acting Executive Director, PACHA, electronically at info@phnip.com, prior to close of business December 15, 2003. Printed text cannot exceed five (5) pages.

Dated: November 26, 2003.
Josephine Bias Robinson,
Executive Director (Acting), Presidential Advisory Council on HIV/AIDS.

[FR Doc. 03-30036 Filed 12-2-03; 8:45 am]

BILLING CODE 4150-28-P